DEPARTMENT OF TRANSPORTATION

Federal Aviation Administration

Notice of Request To Release Property at the Laurinburg-Maxton Airport, Maxton, NC (MEB)

AGENCY: Federal Aviation Administration (FAA), DOT.

ACTION: Notice.

SUMMARY: The Federal Aviation Administration is requesting public comment on a request by the Southeast Regional Airport Authority (SRAA) on behalf of the Town of Laurinburg-Maxton, to release of land (1.57 acres) at the Laurinburg-Maxton Airport from Federal obligations.

DATES: Comments must be received on or before August 26, 2024.

ADDRESSES: Comments on this notice may be emailed to the FAA at the following email address: FAA/Memphis Airports District Office, Attn: Jamal R. Stovall, Lead Community Planner, Jamal.Stovall@faa.gov.

In addition, one copy of any comments submitted to the FAA must be mailed or delivered to Mr. Seth Hatchell, Executive Director, Laurinburg-Maxton Airport at the following address: 16701 Airport Rd., Maxton, NC 28364.

FOR FURTHER INFORMATION CONTACT: Jamal R. Stovall, Lead Community Planner, Federal Aviation Administration, Memphis Airports District Office, 2600 Thousand Oaks Boulevard, Suite 2250, Memphis, TN 38118-2482, Jamal.Stovall@faa.gov or 901-322-8185. The application may be reviewed in person at this same location, by appointment.

SUPPLEMENTARY INFORMATION: The FAA proposes to rule and invites public comment on the request to release property for disposal at the Laurinburg-Maxton Airport (MEB), 16701 Airport Rd, Maxton, NC 28364, under the provisions of 49 U.S.C. 47107(h)(2). The FAA determined that the request to release property at Laurinburg-Maxton Airport (MEB) submitted by the Sponsor meets the procedural requirements of the Federal Aviation Administration and the release of these properties does not and will not impact future aviation needs at the airport. The FAA may approve the request, in whole or in part, no sooner than thirty days after the publication of this notice.

The request consists of the following:

SRAA has proposed a land swap to release “Parcel 1” (1.57 acres) and acquire “Parcel 2” (3.22 acres) at the Laurinburg-Maxton Airport (MEB) located in Maxton, North Carolina. The City of Laurinburg and Town of Maxton jointly own the tract of land formerly known as the Laurinburg-Maxton Airbase. “Parcel 1” is a part of the aforementioned lands which were conveyed to the City of Laurinburg and Town of Maxton by the United States of America by Deed dated October 27, 1947, and recorded in Book 2-D, at Page 367, Scotland County Registry, and also by Deed dated May 7, 1948, and recorded in Book 2-E, at Page 49, Scotland County Registry. The land swap is being proposed so MEB can release “Parcel 1” to the Richmond Community College (RCC) to develop a CDL driving training facility and acquire “Parcel 2” from Scottland County, NC. The land for “Parcel 1” is no longer required for current or future aeronautical purposes and would not prevent the accomplishment of the public airport purpose for which the airport facilities were obligated. This request will release this property from Federal obligations. This action is taken under the provisions of 49 U.S.C. 47107(h)(2).

Any person may inspect the request in person at the FAA office listed above under FOR FURTHER INFORMATION CONTACT.

In addition, any person may, upon request, inspect the request, notice and other documents germane to the request in person at the Laurinburg-Maxton Airport.

Issued in Memphis, Tennessee, on July 22, 2024.
Rans Black,
Acting Manager, Memphis Airports District Office, Southern Region.

[FR Doc. 2024-16429 Filed 7-25-24; 8:45 am]

BILLING CODE 4910-13-P